DEPARTMENT OF ENERGY

Federal Energy Regulatory Commission

[Docket No. CP01-36-000; Docket No. CP01-52-000]

Zia Natural Gas Company v. Raton Gas Transmission Company, Raton Gas Transmission Company; Notice of Technical Conference

March 15, 2001.

A technical conference will be held to discuss issues raised in the above-captioned proceedings on Wednesday, April 11, 2001, at 9:30 a.m. in Room 3M3, at the office of the Federal Energy Regulatory Commission, 888 First Street, NE, Washington, DC 20426.

All interested persons and Staff are permitted to attend. However, attendance does not confer party status.

For additional information, contact Timothy Gordon at (202) 208-2265.

David P. Boergers,
Secretary.

[FR Doc. 01-7006 Filed 3-20-01; 8:45 am]

BILLING CODE 6717-01-M